DEPARTMENT OF THE INTERIOR

National Park Service

Proposed Exchange of Federal Lands for Privately Owned Lands at Olympic National Park

AGENCY: National Park Service, Interior.

ACTION: Notice of proposed land exchange.

SUMMARY: The federally-owned land described below, which was acquired by the National Park Service, has been determined to be suitable for disposal by exchange. The authority for this exchange is the Act of July 15, 1968 (16 U.S.C. 460 l-22(b)) and the Act of June 29, 1938 (16 U.S.C. 251), as amended.

The selected Federal land is within the boundary of Olympic National Park (ONP), along the North Shore Road of the Quinault area. This land has been surveyed to evaluate potential consequences of a land exchange. Those surveys have determined that there will not be any effect on threatened, endangered, or rare species; and there will not be any effect on historical, cultural, or archeological resources. These reports are available upon request.

Fee ownership of the federally-owned property to be exchanged: ONP Tract No. 44-140 is a 0.44 +/−acre parcel of land acquired by the United States of America by deed recorded 12/21/1999, Grays Harbor County Auditor No. 1999-12210050.

Conveyance of the land by the United States of America will be by Quitclaim Deed and include certain land use restrictions to prohibit inappropriate use and development.

In exchange for the lands identified in Paragraph I, the United States of America will acquire a 0.26 +/−acre parcel of land, currently owned by Mr. Thomas LaForest, lying within the boundary of ONP (ONP Tract No. 36-122), also along the North Shore Road of the Quinault area. The private lands are being acquired in fee simple with no reservations, subject only to rights of way and easements of record. Acquisition of the private land will eliminate the risk of inappropriate development along the main roadway through this portion of the park. The acquisition will also provide consistent management with the adjacent park administered lands that currently surround the private land. The exchange will allow for private garage use at a more suitable location that already has this existing structure. This action will ensure minimal adverse impacts to visitor services, natural resources, and the scenic values in ONP.

The value of the proposed properties to be exchanged shall be determined by current fair market value appraisals. Those values shall be equalized by payment of cash, as circumstances require. There is no anticipated increase in maintenance or operational costs as a result of the exchange.

FOR FURTHER INFORMATION CONTACT: Detailed information concerning this exchange, such as precise legal descriptions, maps, and environmental documentation, is available from: Superintendent, Olympic National Park, 600 Park Avenue, Port Angeles, Washington 98362-9798; telephone (360) 565-3111.

For a period of 45 calendar days from the date of this notice, interested parties may submit written comments to the above address. Adverse comments will be evaluated and this action may be modified or vacated accordingly. In the absence of any action to modify or vacate, this realty action will become the final determination of the Department of Interior.

Dated: November 2, 2004.
Jonathan B. Jarvis,
Regional Director, Pacific West Region.

[FR Doc. 05-44 Filed 1-3-05; 8:45 am]

BILLING CODE 4312-KY-P